DEPARTMENT OF JUSTICE

Drug Enforcement Administration

Richard J. Clement, M.D.; Revocation of Registration

On November 19, 2002, the Deputy Assistant Administrator, Office of Diversion Control, Drug Enforcement Administration (DEA), issued an Order to Show Cause to Richard J. Clement, M.D. (Dr. Clement) of Lake Charles, Louisiana, notifying him of an opportunity to show cause as to why DEA should not revoke his DEA Certificate of Registration AC3534814 under 21 U.S.C. 824(a), and deny any pending applications for renewal of that registration pursuant to 21 U.S.C. 823(f). As a basis for revocation, the Order to Show Cause alleged that Dr. Clement is not currently authorized to practice medicine or handle controlled substances in the State of Louisiana, the state in which he practices. The order also notified Dr. Clement that should no request for a hearing be filed within 30 days, his hearing right would be deemed waived.

The Order to Show Cause was sent by certified mail to Dr. Clement at his registered location in Lake Charles, Louisiana. DEA subsequently received a signed receipt notification indicating that the Order to Show Cause was received on behalf of Dr. Clement on November 29, 2002. DEA has not received a request for hearing or any other reply from Dr. Clement or anyone purporting to represent him in this matter. Therefore, the Deputy Administrator, finding that (1) 30 days have passed since the receipt of the Order to Show Cause, and (2) no request for a hearing having been received, concludes that Dr. Clement is deemed to have waived his hearing right. After considering material from the investigative file in this matter, the Deputy Administrator now enters his final order without a hearing pursuant to 21 CFR 1301.43(d) and (e) and 1301.46.

The Deputy Administrator finds that Dr. Clement currently possesses DEA Certificate of Registration AC3534814 and that registration remains valid until August 31, 2004. The Deputy Administrator further finds that by Opinion and Ruling dated July 31, 2002, the Louisiana State Board of Medical Examiners (Board) ordered the indefinite suspension of Dr. Clement's medical license. The suspension order arose out of Dr. Clement's refusal to undergo inpatient evaluation to ascertain whether he suffered from “a psychiatric, neurologic (sic) or physical condition which render[ed] him incapable of practicing medicine with reasonable skill and safety to patients.”

The investigative file contains no evidence that the Board's suspension order has been stayed or that Dr. Clement's medical license has been reinstated. Therefore, the Deputy Administrator finds that Dr. Clement is not currently authorized to practice medicine in the State of Louisiana. As a result, it is reasonable to infer that he is also without authorization to handle controlled substances in that state.

DEA does not have statutory authority under the Controlled Substances Act to issue or maintain a registration if the applicant or registrant is without state authority to handle controlled substances in the state in the state in which he conducts business. See 21 U.S.C. 802(21), 823(f) and 824(a)(3). This prerequisite has been consistently upheld. See Ramona K. Morris, M.D., 67 FR 68687 (2002); Dominick A. Ricci, M.D., 58 FR 51104 (1993); Bobby Watts, M.D., 53 FR 11919 (1988).

Here, it is clear that Dr. Clement's medical license has been indefinitely suspended, and as a result, he is not licensed to handle controlled substances in the State of Louisiana where he is registered with DEA. Therefore, he is not entitled to a DEA registration in that state.

Accordingly, the Deputy Administrator of the Drug Enforcement Administration, pursuant to the authority vested in him by 21 U.S.C. 823 and 824 and 28 CFR 0.100(b) and 0.104, hereby orders that DEA Certificate of Registration AC3534814, issued to Richard J. Clement, M.D. be, and it hereby is, revoked. The Deputy Administrator further orders that any pending applications for renewal or modification of such registration be, and they hereby are, denied. This order is effective April 14, 2003.

Dated: February 27, 2003.
John B. Brown III,
Deputy Administrator.

[FR Doc. 03-6102 Filed 3-12-03; 8:45 am]

BILLING CODE 4410-09-M